COMMISSION ON OCEAN POLICY

Public Meeting

AGENCY: Commission on Ocean Policy.

ACTION: Notice.

SUMMARY: The Commission on Ocean Policy will hold a meeting to discuss the development of recommendations for a coordinated national ocean policy. This will be the fourteenth public Commission meeting.

DATES: The public meeting will be held Friday, January 24, 2003 from 8:30 a.m. to 3:45 p.m.

ADDRESSES: The meeting location is the Amphitheater, Ronald Reagan Building and International Trade Center, 1300 Pennsylvania Ave., NW., Washington DC 20004.

FOR FURTHER INFORMATION CONTACT: Terry Schaff, U.S. Commission on Ocean Policy, 1120 20th Street, NW., Washington, DC 20036, 202-418-3442, schaff@oceancommission.gov.

SUPPLEMENTARY INFORMATION: This meeting is being held pursuant to requirements under the Oceans Act of 2000 (Pub. L. 106-256, Section 3(e)(1)(E)). The agenda will include discussions of policy options, a public comment session, and any required administrative discussions and executive sessions. Members of the public are requested to submit their statements for the record electronically by Tuesday, January 14, 2003 to the meeting Point of Contact. The meeting agenda, including the specific time for the public comment period, and guidelines for making public comments will be posted on the Commission's Web site at http://www.oceancommission.gov prior to the meeting.

Dated: January 3, 2003.
James D. Watkins, USN (ret.),
Chairman, Commission on Ocean Policy.

[FR Doc. 03-370 Filed 1-8-03; 8:45 am]

BILLING CODE 6820-WM-U